DEPARTMENT OF EDUCATION

Notice of Funding of Continuation Grant and Waiver for the Pacific Vocational Educational Improvement Program (PVEIP)

AGENCY: Office of Vocational and Adult Education, Department of Education.

SUMMARY: The Secretary waives the requirements in 34 CFR 75.250 of the Education Department General Administrative Regulations (EDGAR) that generally prohibit project periods exceeding five years and announces the funding of a continuation grant for the PVEIP. This waiver enables the current, single eligible grantee, the Pacific Region Educational Laboratory (PREL), to continue to receive Federal funding beyond the five-year limitation from fiscal years (FYs) 2006 and 2007 appropriations.

EFFECTIVE DATE: This notice is effective June 4, 2007.

FOR FURTHER INFORMATION CONTACT: Laura Karl Messenger, U.S. Department of Education, 400 Maryland Avenue, SW., Room 11028, Potomac Center Plaza, Washington, DC 20202-7241. Telephone (202) 245-7840.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION: Under the Administrative Procedure Act (APA) (5 U.S.C. 553), the Department generally offers interested parties the opportunity to comment on proposed regulations. However, on March 9, 2007, in accordance with section 553(b) of the APA, the Department gave actual notice to the current PVEIP single eligible grantee and its sub-grantees of, and requested comment on, our proposal to waive 34 CFR 75.250 and to fund a continuation grant instead of requiring PREL to submit a new application for a new, one-year grant award. This waiver and continuation grant enable the Secretary to provide additional funds to the current, single eligible grantee for one additional project period, in accordance with the requirements of section 115(b)(1) of the Carl D. Perkins Career and Technical Education Act of 2006, Pub.L. 109-270 (Perkins Act). There are no substantive differences between the actual notice of our proposal and this notice of funding of a continuation grant and waiver. Therefore, all affected parties were provided actual notice of the Department's proposal and an opportunity to comment in lieu of publication of a notice of proposed rulemaking in the Federal Register.

The Perkins Act was signed into law on August 12, 2006. The PVEIP is authorized by section 115(b)(1) of the Perkins Act, which states that, for the first fiscal year following the date of enactment, i.e., FY 2007, the Secretary shall award a grant to PREL to make grants for career and technical education and training in Guam, American Samoa, and the Commonwealth of the Northern Mariana Islands, and that, beginning with the second fiscal year after enactment, the Secretary shall make grants in equal proportions to Guam, American Samoa, and the Commonwealth of the Northern Mariana Islands under section 115(b)(2) from the funds that were previously reserved for PREL.

The PVEIP makes grants to Guam, American Samoa, and the Commonwealth of the Northern Mariana Islands, for the purpose of providing direct career and technical educational services, including: (A) Teacher and counselor training and retraining; (B) curriculum development; and (C) the improvement of career and technical education and training programs in secondary schools and institutions of higher education or improving cooperative education programs involving secondary schools and institutions of higher education.

Because the Perkins Act does not make any substantive changes to the purpose of the PVEIP, and because the law specifies that PREL is to receive an award during one additional fiscal year only, we do not believe it would be in the public interest to require PREL to submit a new application for a one-year grant award. The nature of the PVEIP, in which the single eligible applicant, PREL, is defined in the law, allowed us to provide actual notice in lieu of publishing a notice of proposed rulemaking, consistent with section 553(b) of the APA. Pursuant to the requirements of section 553(b) of the APA, and in order to make a timely grant award in FY 2007, on March 9, 2007, we contacted PREL and its sub-grantees directly and provided them actual notice of, and requested their comments on, our proposal to waive 34 CFR 75.250 and fund a continuation grant.

In response to the actual notice of proposed funding of a continuation grant and waiver, and our invitation to comment, two parties submitted comments supporting the proposed waiver and the proposal to fund a continuation grant for the current, single eligible grantee. We did not receive any comments opposing the proposed waiver and proposal to fund a continuation grant, and, therefore, no substantive changes have been made.

The Secretary waives the requirements in 34 CFR 75.250, which prohibit project periods exceeding five years. With this waiver we can continue the PVEIP grant to PREL and award the final funding authorized by the Perkins Act for PREL from the FY 2006 and FY 2007 appropriations, in accordance with the requirements of section 115(b)(1) of the Perkins Act. This waiver of 34 CFR 75.250 means that: (1) The current PVEIP grant will be continued in accordance with § 75.253, and (2) we will not make a new award in FY 2007.

The waiver of 34 CFR 75.250 does not exempt the current PVEIP grantee from the account closing provisions of 31 U.S.C. 1552(a), nor does it extend the availability of funds previously awarded to the current PVEIP grantee. As a result of 31 U.S.C. 1552(a), appropriations available for a limited period may be used for payment of valid obligations for only five years after the expiration of their period of availability for Federal obligation. After that time, the unexpended balance of those funds is canceled and returned to the Treasury Department and is unavailable for restoration for any purpose.

Regulatory Flexibility Act Certification

The Secretary certifies that this notice of funding of a continuation grant and waiver will not have a significant economic impact on a substantial number of small entities. The only entities that would be affected are the current eligible grantee and the three eligible PVEIP sub-grantees.

Paperwork Reduction Act of 1995

This notice of funding of a continuation grant and waiver does not contain any information collection requirements.

Assessment of Educational Impact

Based on our own review, we have determined that this notice of funding of a continuation grant and waiver does not require transmission of information that any other agency or authority of the United States gathers or makes available.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number: 84.048B Pacific Vocational Education Improvement Program)

Program Authority: 20 U.S.C. 2325.

Dated: April 30, 2007.
Troy R. Justesen,
Assistant Secretary for Vocational and Adult Education.

[FR Doc. E7-8527 Filed 5-3-07; 8:45 am]

BILLING CODE 4000-01-P